FEDERAL COMMUNICATIONS COMMISSION

47 CFR Parts 73 and 74

[MB Docket No. 20-74; FCC 21-21; FR ID 136581]

Rules Governing the Use of Distributed Transmission System Technologies

AGENCY: Federal Communications Commission

ACTION: Final rule; announcement of effective date.

SUMMARY: In this document, the Federal Communications Commission (Commission) announces that the Office of Management and Budget (OMB) has approved, for a period of three years, the information collections adopted in Report and Order in MB Docket No. 20-74, FCC 21-21, Rules Governing the Use of Distributed Transmission System Technologies, which stated that the Commission would publish a document in the Federal Register announcing the effective date of those rules.

DATES: The amendments to 47 CFR 73.6010, 73.6023, and 74.720, published at 86 FR 21217 on April 22, 2021, are effective May 18, 2023.

FOR FURTHER INFORMATION CONTACT: Kevin Harding, Media Bureau, Video Division, at (202) 418-1600 or Kevin.Harding@fcc.gov. For information regarding the Paperwork Reduction Act (PRA) information collection requirements contained in the PRA, contact Cathy Williams, Office of Managing Director, at (202) 418-2918 or Cathy.Williams@fcc.gov.

SUPPLEMENTARY INFORMATION: This document announces that OMB approved the information collection requirements in 47 CFR 73.6010, 73.6023, and 74.720, on April 7, 2023. These rules were modified in the Report and Order in MB Docket No. 20-74, FCC 21-21, Rules Governing the Use of Distributed Transmission System Technologies, published at 86 FR 21217 on April 22, 2021. The Commission publishes this document as an announcement of the compliance date of the rules. Rule amendments adopted in the Report and Order which did not require OMB approval became effective on May 24, 2021.

Synopsis

As required by the Paperwork Reduction Act of 1995 (44 U.S.C. 3507), the FCC is notifying the public that it received final OMB approval on April 7, 2023, for the information collection requirements contained in 47 CFR 73.6023, 73.6010, and 74.720. Under 5 CFR part 1320, an agency may not conduct or sponsor a collection of information unless it displays a current, valid OMB Control Number.

No person shall be subject to any penalty for failing to comply with a collection of information subject to the Paperwork Reduction Act that does not display a current, valid OMB Control Number. The OMB Control Numbers for the information collection requirements in these rules are 3060-0016, 3060-0017, 3060-0928 and 3060-0932.

The foregoing notice is required by the Paperwork Reduction Act of 1995, Public Law 104-13, October 1, 1995, and 44 U.S.C. 3507.

The total annual reporting burdens and costs for the respondents are as follows:

OMB Control Number: 3060-0016.

OMB Approval Date: April 7, 2023.

OMB Expiration Date: April 30, 2026.

Title: FCC Form 2100, Application for Media Bureau Audio and Video Service Authorization, Schedule C (Former FCC Form 346); Sections 74.793(d) and 74.787, LPTV Out-of-Core Digital Displacement Application; Section 73.3700(g)(1)-(3), Post-Incentive Auction Licensing and Operations; Section 74.799, Low Power Television and TV Translator Channel Sharing.

Form No.: FCC Form 2100, Schedule C.

Respondents: Business or other for-profit entities; Not for profit institutions; State, local, or Tribal government.

Number of Respondents and Responses: 805 respondents and 805 responses.

Estimated Time per Response: 4.5 hours.

Frequency of Response: On occasion reporting requirement; third party disclosure requirement.

Obligation to Respond: Required to obtain or retain benefits. The statutory authority for this collection is contained in section 154(i), 303, 307, 308 and 309 of the Communications Act of 1934, as amended.

Total Annual Burden: 3,623 hours.

Annual Cost Burden: $4,156,288.

Needs and Uses: On January 19, 2021, the Commission adopted Rules Governing the Use of Distributed Transmission System Technologies, MB Docket No. 20-74, Report and Order, FCC 21-21. The Commission released rules to allow low power television and television translator stations (collectively “low power stations”) to seek authority to construct Distributed Transmission System (DTS) operations. Pursuant to new § 74.720 of the rules, low power stations may now propose DTS operations by filing an application for construction permit for minor modification—FCC Form 2100, Schedule C. This submission is also being made to OMB for approval of the modified FCC Form 2100, Schedule C.

OMB Control Number: 3060-0017.

OMB Approval Date: April 7, 2023.

OMB Expiration Date: April 30, 2026.

Title: Application for Media Bureau Audio and Video Service Authorization, FCC Form 2100, Schedule D.

Form Number: FCC Form 2100, Schedule D.

Respondents: Business or other for profit entities; Not for profit institutions; State, local, or Tribal government.

Number of Respondents/Responses: 805 respondents; 805 responses.

Estimated Hours per Response: 1.5 hours per response.

Frequency of Response: On occasion reporting requirement.

Total Annual Burden: 1,208 hours.

Total Annual Cost: $96,600.

Obligation to Respond: Required to obtain benefits. The statutory authority for this information collection is contained in sections 154(i), 301, 303, 307, 308 and 309 of the Communications Act of 1934, as amended.

Needs and Uses: On January 19, 2021, the Commission released the Rules Governing the Use of Distributed Transmission System Technologies, FCC 21-21. The Commission adopted rules to allow low power television and television translator stations (collectively “low power stations”) to seek authority to construct Distributed Transmission System (DTS) operations. Pursuant to new § 74.720 of the rules, low power stations may now propose DTS operations and when those facilities are constructed, file an application for license—FCC Form 2100, Schedule D. This submission is being made to OMB for approval of the modified FCC Form 2100, Schedule D. These changes will also result in a slight change in the burden hours/responses.

OMB Control Number: 3060-0928.

OMB Approval Date: April 7, 2023.

OMB Expiration Date: April 30, 2026.

Title: FCC Form 2100, Application for Media Bureau Audio and Video Service Authorization, Schedule F (Formerly FCC 302-CA); 47 CFR 73.6028; Section 73.3700(b)(3); Section 73.3700(h)(2) and Section 73.3572(h).

Form No.: FCC Form 2100, Schedule F.

Respondents: Business or other for-profit entities; Not for profit institutions; State, local, or Tribal Government.

Number of Respondents and Responses: 65 respondents and 65 responses.

Estimated Time per Response: 2 hours.

Frequency of Response: On occasion reporting requirement.

Total Annual Burden: 260 hours.

Annual Cost Burden: $20,475.

Needs and Uses: On January 19, 2021, the Commission released the Rules Governing the Use of Distributed Transmission System Technologies Report and Order, FCC 21-21. The Commission adopted these rules to allow Class A television stations to seek authority to construct Distributed Transmission System (DTS) operations. Pursuant to new § 73.6023 of the rules, Class A stations may now propose DTS operations and when those facilities are constructed file an application for license on FCC Form 2100, Schedule F. This submission is also being made to OMB for approval of the modified FCC Form 2100, Schedule F.

OMB Control Number: 3060-0932.

OMB Approval Date: April 7, 2023.

OMB Expiration Date: April 30, 2026.

Title: FCC Form 2100, Application for Media Bureau Audio and Video Service Authorization, Schedule E (Former FCC Form 301-CA); 47 CFR 73.3700(b)(1)(i)-(v) and (vii), (b)(2)(i) and (ii); 47 CFR 73.6028; 47 CFR 74.793(d); 47 CFR 73.6023.

Form No.: FCC Form 2100, Schedule E (Application for Media Bureau Audio and Video Service Authorization).

Respondents: Business or other for-profit entities; Not for profit institutions; State, local, or Tribal government.

Number of Respondents and Responses: 60 respondents and 60 responses.

Estimated Time per Response: 2.25 hours-6 hours.

Frequency of Response: On occasion reporting requirement; Third party disclosure requirement.

Obligation to Respond: Required to obtain or retain benefits. The statutory authority for this collection is contained in 47 U.S.C. 151, 154(i), 157 and 309(j) as amended; Middle Class Tax Relief and Job Creation Act of 2012, Public Law 112-96, 6402 (codified at 47 U.S.C. 309(j)(8)(G)), 6403 (codified at 47 U.S.C. 1452), 126 Stat. 156 (2012) (Spectrum Act) and the Community Broadcasters Protection Act of 1999.

Total Annual Burden: 495 hours.

Annual Cost Burden: $258,000.

Needs and Uses: On January 19, 2021, the Commission released Rules Governing the Use of Distributed Transmission System Technologies, Report and Order, FCC 21-21. The Commission adopted these rules to allow Class A television stations to seek authority to construct Distributed Transmission System (DTS) operations. Pursuant to new § 73.6023 of the rules, Class A stations may now propose DTS operations by filing an application for construction permit for minor modification—FCC Form 2100, Schedule E. This submission is also being made to OMB for approval of the modified FCC Form 2100, Schedule E.

Federal Communications Commission.
Marlene Dortch,
Secretary, Office of the Secretary.

[FR Doc. 2023-08119 Filed 4-17-23; 8:45 am]

BILLING CODE 6712-01-P